DEPARTMENT OF ENERGY

Federal Energy Regulatory Commission

[Docket No. TX18-1-000]

Notice of Filing; AEP Energy Partners, Inc.

Take notice that on March 28, 2018, pursuant to section 211 of the Federal Power Act ¹ and part 36 of the Federal Energy Regulatory Commission (Commission) Rules of Practice and Procedure,² AEP Energy Partners, Inc., LLC filed an application requesting that the Commission issue an order directing Sharyland Utlities, L.P., AEP Texas, Inc. and Electric Transmission of Texas, LLC to provide transmission services for power flows to, from, and over the Sharyland DC Tie, the Eagle Pass DC Tie and the Laredo VFT Tie, respectively.

¹ 16 U.S.C. 824j (2012).

² 18 CFR 36.1 et seq.

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. Such notices, motions, or protests must be filed on or before the comment date. Anyone filing a motion to intervene or protest must serve a copy of that document on the Applicant. On or before the comment date, it is not necessary to serve motions to intervene or protests on persons other than the Applicant.

The Commission encourages electronic submission of protests and interventions in lieu of paper using the eFiling link at http://www.ferc.gov. Persons unable to file electronically should submit an original and 14 copies of the protest or intervention to the Federal Energy Regulatory Commission, 888 First Street NE, Washington, DC 20426.

This filing is accessible on-line at http://www.ferc.gov, using the eLibrary link and is available for review in the Commission's Public Reference Room in Washington, DC There is an “eSubscription” link on the website that enables subscribers to receive email notification when a document is added to a subscribed docket(s). For assistance with any FERC Online service, please email FERCOnlineSupport@ferc.gov, or call (866) 208-3676 (toll free). For TTY, call (202) 502-8659.

Comment Date: 5:00 p.m. Eastern Time on April 18, 2018.

Dated: March 29, 2018.
Kimberly D. Bose,
Secretary.

[FR Doc. 2018-06800 Filed 4-3-18; 8:45 am]

BILLING CODE 6717-01-P